DEPARTMENT OF STATE

[Public Notice 11539]

Determination Pursuant to Section 451 of the Foreign Assistance Act of 1961 Regarding FY 2020 Peacekeeping Operations

Pursuant to section 451 of the Foreign Assistance Act of 1961 (the “Act”) (22 U.S.C. 2261), section 1-100(a)(1) of E.O. 12163, and Delegation of Authority No. 513, I hereby authorize, notwithstanding any other provision of law, the use of up to $11,781,000 made available to carry out provisions of the Act (other than the provisions of chapter 1 of part I of the Act) to provide assistance for the UN Support Office for Somalia.

This Determination and the accompanying Memorandum of Justification shall be promptly reported to the Congress. This Determination shall be published in the Federal Register.

Dated: July 20, 2021.
Brian P. McKeon,
Deputy Secretary of State for Management and Resources.

[FR Doc. 2021-20406 Filed 9-20-21; 8:45 am]

BILLING CODE 4710-25-P